DEPARTMENT OF TRANSPORTATION

Federal Aviation Administration

14 CFR Part 39

[Docket No. FAA-2012-0291; Directorate Identifier 2011-NM-168-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A318-112, and -121; A319-111, -112, -115, -132, and -133; A320-214, -232, and -233; and A321-211, -212, -213, and -231 airplanes. This proposed AD was prompted by reports that some nuts installed on the wing, including on primary structural elements, were found cracked. This proposed AD would require inspecting to determine if certain nuts are installed or cracked, and replacing the affected nuts if necessary. We are proposing this AD to detect and correct missing and cracked nuts, which could result in the structural integrity of the airplane wings being impaired.

DATES: We must receive comments on this proposed AD by May 7, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; email: account.airworth-eas@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2012-0291; Directorate Identifier 2011-NM-168-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0121R1, dated July 13, 2011 (referred to after this as “the MCAI”), to correct an unsafe condition for the specified products. The MCAI states:

During structural part assembly in Airbus production line, some [wing] nuts Part Number (P/N) ASNA2531-4 were found cracked. Investigations were performed to determine the batches of the affected nuts and had revealed that these nuts have been installed in production on the fuel tank area of aeroplanes listed in the applicability section of this AD.

Static, fatigue and corrosion tests were performed, which demonstrated that no immediate maintenance action is necessary. However, a large number of these nuts are fitted on primary structural elements, which could have long-term consequences.

This condition, if not corrected, could impair the structural integrity of the affected aeroplanes.

For the reasons described above, this [EASA] AD requires a detailed inspection of the affected nuts [for cracking and to determine if nuts are installed], associated corrective actions, depending on findings, and replacement of the affected P/N ASNA2531-4 nuts with new ones, having the same P/N [and reporting to Airbus the inspection results].

This [EASA] AD has been revised to reduce the Applicability. Since no spare nuts have been delivered to operators for installation on Airbus aeroplanes, only the Models and MSN listed in the Airbus SB are affected by this [EASA] AD.

You may obtain further information by examining the MCAI in the AD docket.

Relevant Service Information

Airbus has issued Service Bulletin A320-57-1153, including Appendices 01, 02, and 03, Revision 01, dated June 28, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

This proposed AD differs from the MCAI and/or service information as follows: The European Aviation Safety Agency (EASA) Airworthiness Directive specifies a compliance time of 12 years after the first flight of the airplane. This proposed AD specifies a compliance time of the later of the following: (1) Within 6 years after the first flight of the airplane; or (2) within 6 years after the most recent scheduled fuel tank inspection or 6 months after the effective date of this AD (whichever occurs later). This difference has been coordinated with EASA.

Costs of Compliance

Based on the service information, we estimate that this proposed AD would affect about 170 products of U.S. registry. We also estimate that it would take up to 15 work-hours per product to comply with the basic requirements of this proposed AD. The average labor rate is $85 per work-hour. Based on these figures, we estimate the cost of the proposed AD on U.S. operators to be $216,750, or $1,275 per product.

In addition, we estimate that any necessary follow-on actions would take about 143 work-hours and require parts costing $0, for a cost of $12,155 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0291; Directorate Identifier 2011-NM-168-AD.

(a) Comments Due Date

We must receive comments by May 7, 2012.

(b) Affected ADs

None.

(c) Applicability

This AD applies to Airbus Model A318-112, and -121; A319-111, -112, -115, -132, and -133; A320-214, -232, and -233; and A321-211, -212, -213, and -231 airplanes; certificated in any category; serial numbers 3359, 3361, 3362, 3365, 3366, 3368, 3370 to 3508 inclusive, 3510 to 3519 inclusive, 3522, 3523, 3525, 3527, 3529, 3530, 3533, 3534, 3537, 3539, 3542, 3544, 3546, 3548, 3552, and 3555.

(d) Subject

Air Transport Association (ATA) of America Code 57: Wings.

(e) Reason

This AD was prompted by reports that some nuts installed on the wing, including on primary structural elements, were found cracked. We are issuing this AD to detect and correct missing and cracked nuts, which could result in the structural integrity of the airplane wings being impaired.

(f) Compliance

You are responsible for having the actions required by this AD performed within the compliance times specified, unless the actions have already been done.

(g) Inspect/Replace the Fuel Tank Nuts

Within the compliance times specified in paragraphs (g)(1) or (g)(2), whichever occurs later: Do a detailed inspection of the fuel tank areas of the wings to determine if nuts with part number (P/N) ASNA2531-4 are installed or cracked, in accordance with the Accomplishment Instructions of Airbus Service Bulletin A320-57-1153, including Appendices 01, 02, and 03, Revision 01, dated June 28, 2010. Before further flight, replace any missing or cracked nut with P/N ASNA2531-4 with a new P/N ASNA2531-4 nut, in accordance with the Accomplishment Instructions of Airbus Service Bulletin A320-57-1153, including Appendices 01, 02, and 03, Revision 01, dated June 28, 2010.

(1) Within 6 years after the first flight of the airplane.

(2) Within 6 years after the most recent scheduled fuel tank inspection, or 6 months after the effective date of this AD, whichever occurs later.

(h) Inspection Report

Submit a report of the findings of the inspection required by paragraph (h) of this AD to Airbus, at the applicable time specified in paragraph (h)(1) or (h)(2) of this AD. Submit the report using “Appendix 01—Inspection Report,” of Airbus Service Bulletin A320-57-1153, Revision 01, dated June 28, 2010.

(1) If the inspection was done on or after the effective date of this AD: Submit the report within 90 days after the inspection.

(2) If the inspection was done before the effective date of this AD: Submit the report within 90 days after the effective date of this AD.

(i) Credit for Previous Actions

This paragraph provides credit for the actions required by paragraph (g) of this AD, if the actions were performed before the effective date of this AD using Airbus Service Bulletin A320-57-1153, including Appendices 01, 02, and 03, dated February 9, 2010.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Related Information

Refer to MCAI European Aviation Safety Agency (EASA) Airworthiness Directive 2011-0121R1, dated July 13, 2011; and Airbus Service Bulletin A320-57-1153, Revision 01, including Appendices 01, 02, and 03, dated June 28, 2010; for related information.

Issued in Renton, Washington, on March 12, 2012.
John P. Piccola,
Acting Manager, Transport Airplane Directorate, Aircraft Certification Service.

[FR Doc. 2012-6772 Filed 3-20-12; 8:45 am]

BILLING CODE 4910-13-P